ENVIRONMENTAL PROTECTION AGENCY

[EPA-HQ-OPP-2008-0347; FRL-8803-9]

Carbaryl; Product Cancellation Order

AGENCY: Environmental Protection Agency (EPA).

ACTION: Notice.

SUMMARY: This Notice announces EPA's order for the cancellations, voluntarily requested by the registrant and accepted by the Agency, of products containing the pesticide, carbaryl, pursuant to section 6(f)(1) of the Federal Insecticide, Fungicide, and Rodenticide Act (FIFRA), as amended. This cancellation order follows an October 21, 2009 Federal Register Notice of Receipt of Request from the carbaryl registrant to voluntarily cancel their carbaryl pet collar product registrations. These are not the last carbaryl products registered for use in the United States; however, they are the last carbaryl products registered for use on pets. In the October 21, 2009 Notice, EPA indicated that it would issue an order implementing the cancellations, unless the Agency received substantive comments within the 30-day comment period that would merit its further review of these requests, or unless the registrant withdrew its request within this period. The Agency received one comment on the Notice, but it did not merit further review of the request. Further, the registrant did not withdraw its request. Accordingly, EPA hereby issues in this Notice a cancellation order granting the requested cancellations. Any distribution, sale, or use of the carbaryl products subject to this cancellation order is permitted only in accordance with the terms of this order, including any existing stocks provisions.

DATES: The cancellations of the products listed in Table 1 of Unit II. are effective September 30, 2010.

FOR FURTHER INFORMATION CONTACT: Jacqueline Guerry, Pesticide Re-Evaluation Division, Office of Pesticide Programs, Environmental Protection Agency, 1200 Pennsylvania Ave., NW., Washington, DC 20460-0001; telephone number: (215) 814-2184; fax number: (215) 814-3113; e-mail address: guerry.jacqueline@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

EPA has established a docket for this action under docket identification (ID) number EPA-HQ-OPP-2008-0347. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Action is the Agency Taking?

This Notice announces, effective September 30, 2010, the cancellation, as requested by the registrant Wellmark International of certain end-use carbaryl products registered under section 3 of FIFRA. These registrations are listed in sequence by registration number in Table 1 of this unit.

Table 1.—Carbaryl Product Cancellations
Registration Number | Product Name
2724-272 | Flea Collar RF-76 for Cats
2724-273 | Flea Collar RF-75 for Dogs

Table 2 of this unit includes the name and address of record of the registrant of the products in Table 1 of this unit.

Table 2.—Registrants of Cancelled Carbaryl Products
EPA Company Number | Company Name and Address
2724 | Wellmark International 1501 E. Woodfield Road, Suite 200 WestSchaumburg, Illinois 60173

III. Summary of Public Comments Received and Agency Response to Comments

The Agency received one comment in response to the October 21, 2009, Carbaryl; Notice of Receipt of a Request to Voluntarily Cancel Pesticide Registrations to Terminate Use of Certain Products, from BioSpotVictims.org (BioSpot), a non-profit organization. BioSpot supports the decision by the registrant to cancel their carbaryl pet collar products; however, BioSpot objects to EPA’s proposal to allow persons other than the registrant to continue to sell existing stocks of canceled products until such stocks are exhausted. BioSpot raises the concern that children will be exposed to carbaryl pet collars well beyond December 30, 2010, and therefore, urges EPA to consider prohibiting all persons from selling existing stocks of carbaryl pet collar products after December 30, 2010. BioSpot did not provide any information to support or substantiate this concern.

Based on its use pattern, the Agency understands that the shelf-life for treated pet collars, in general, is short. Further, based on conversations with the registrant, the Agency understands that a 3 month shelf-life for the registrant’s pet collar products is typical, and therefore, the EPA expects that any existing stocks of carbaryl pet collars will move through the channels of trade quickly. This is reflected in the existing stocks provision which only allows the registrant to sell or distribute existing stocks for 3 months after the effective date of this order. Additionally, these products are labeled for up to 4 months of effective flea protection; direct the user to replace the collar after 4 months, if necessary; and instruct the user not to reuse the collar. The Agency believes if the collars are used in the manner consistent with the labeling, and the law, and discarded properly as directed, the existing stocks will, again, move through the channels of trade quickly. Thus, EPA disagrees with BioSpot’s claim that the existing stock provision in this Notice will allow exposure to carbaryl pet collars to extend “well beyond” December 30, 2010.

In addition, the Agency’s Existing Stocks Policy (56 FR 29362) June, 26, 1991, generally provides that if the Agency has not identified a particular risk concern, registrants will generally be permitted to sell or distribute existing stocks for 1 year after the cancellation request was received and that persons other than the registrant will generally be allowed to sell, distribute, or use existing stocks until such stocks are exhausted. The policy also explains that where EPA has identified a particular risk issue, the Agency will generally weigh the risk against the benefits of allowing any continued sale, distribution, or use on a case-by-case basis. In doing so, one of the factors that the Agency may take into consideration is the degree to which the registrant’s actions accelerated the removal of the pesticide from the market, and whether the cancellation would have occurred at all without the existing stocks provision. (56 FR 29365).

The registrant’s voluntary cancellation request is conditioned upon the inclusion of the proposed existing stocks provision. Thus, one of the things EPA has considered in deciding whether to allow any continued sale, distribution, or use of existing stocks is the exposure that might result absent the voluntary cancellation—even if EPA otherwise would have initiated cancellation proceedings. EPA has determined that granting this request with the proposed existing stocks provision will result in the removal of carbaryl pet collar products from the market sooner (and certainly with the expenditure of far fewer resources) than if EPA were to initiate cancellation proceedings. For these reasons, the Agency does not believe that the comments submitted during the comment period merit further review or a denial of the requests for voluntary cancellation.

IV. Cancellation Order

Pursuant to FIFRA section 6(f), EPA hereby approves the requested cancellations of the carbaryl registrations identified in Table 1 of Unit II. Accordingly, effective September 30, 2010, the Agency orders that the carbaryl product registrations identified in Table 1 of Unit II are canceled. After September 30, 2010, any distribution, sale, or use of existing stocks of the products identified in Table 1 of Unit II in a manner inconsistent with any of the Provisions for Disposition of Existing Stocks set forth in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a Notice of Receipt of any such request in the Federal Register. Thereafter, following the public comment period, the Administrator may approve such a request.

VI. Provisions for Disposition of Existing Stocks

Existing stocks are those stocks of registered pesticide products which are currently in the United States and which were packaged, labeled, and released for shipment prior to the effective date of the cancellation action. The cancellation order issued in this Notice includes the following existing stocks provisions.

The registrant may sell or distribute existing stocks of the products identified in Table 1 of Unit II until December 30, 2010. All sale or distribution of existing stocks by the registrant is prohibited after December 30, 2010, unless that sale or distribution is solely for the purpose of facilitating disposal or export of the product. The Agency will allow persons other than the registrant to continue to sell and/or use existing stocks of canceled products until such stocks are exhausted, provided that such use is consistent with the terms of the previously approved labeling on, or that accompanied, the canceled product.

List of Subjects

Environmental protection, Pesticides and pests.

Dated: December 9, 2009.
Richard P. Keigwin, Jr.,
Director, Pesticide Re-evaluation Division, Office of Pesticide Programs.

[FR Doc. E9-29894 Filed 12-15-09; 8:45 am]

BILLING CODE 6560-50-S